DEPARTMENT OF DEFENSE

Department of the Air Force

32 CFR Chapter VII

[Docket ID: USAF-2021-HQ-0001]

RIN 0701-AA81

Appointment to the Air Force Academy

AGENCY: Department of the Air Force, Department of Defense.

ACTION: Final rule.

SUMMARY: This final rule removes the regulation concerning how the Department of the Air Force appoints individuals to the United States Air Force Academy. The part is outdated, contains internal guidance, reiterates statutory law, and is otherwise subject to the military function exemption to rulemaking. Applicants to the Air Force Academy are individually provided with any relevant entrance information and the current policy is publicly available on the United States Air Force Academy's website. Therefore, the part is unnecessary and can be removed from the Code of Federal Regulations (CFR).

DATES: This rule is effective on December 17, 2021.

FOR FURTHER INFORMATION CONTACT: Laura Megan-Posch at 703-697-4370.

SUPPLEMENTARY INFORMATION: This final rule removes 32 CFR part 901, “Appointment to the United States Air Force Academy,” which was originally published on June 26, 1986 (51 FR 23221), and has not since been updated. Part 901 is outdated, contains internal guidance, reiterates statutory law, and is otherwise subject to the military function exemption to rulemaking. Current policy is provided individually to applicants and is contained in Air Force Manual 36-2032, Military Recruiting and Accessions, September 27, 2019 (available at https://static.e-publishing.af.mil/production/1/af_a1/publication/afman36-2032/afman36-2032.pdf). Accordingly, this part is unnecessary and can be removed from the CFR. It has been determined that publication of this CFR part removal for public comment is impracticable and contrary to the public interest because it is based on removing outdated and unnecessary content. This rule is not significant under Executive Order 12866, Sec 3, “Regulatory Planning and Review.”

The Under Secretary of the Air Force, Ms. Gina Ortiz Jones, having reviewed and approved this document, is delegating the authority to electronically sign this document to Mr. Tommy W. Lee, who is the Air Force Federal Register Liaison Officer, for purposes of publication in the Federal Register.

List of Subjects in 32 CFR Part 901

Military academies, Reporting and recordkeeping requirements.

CHAPTER VII—DEPARTMENT OF THE AIR FORCE

SUBCHAPTER K—[REMOVED AND RESERVED]

Accordingly, by the authority of 5 U.S.C. 301, subchapter K of chapter VII of 32 CFR, consisting of part 901, is removed and reserved.

Tommy W. Lee,
Air Force Federal Register Liaison Officer.

[FR Doc. 2021-27304 Filed 12-16-21; 8:45 am]

BILLING CODE 5001-10-P